DEPARTMENT OF TRANSPORTATION

Office of the Secretary of Transportation

[DOT Docket No. DOT-OST-2010-0074]

The Future of Aviation Advisory Committee (FAAC); Notice of Federal Advisory Committee Meeting

AGENCY: U.S. Department of Transportation, Office of the Secretary of Transportation.

ACTION: The Future of Aviation Advisory Committee (FAAC); Notice of Federal Advisory Committee Meeting.

SUMMARY: The Department of Transportation, Office of the Secretary of Transportation, announces the first meeting of the FAAC which will be held in the Metropolitan Washington, DC area. This notice announces the date, time and location of the meeting, which will be open to the public. The purpose of FAAC is to provide advice and recommendations to the Secretary of Transportation to ensure the competitiveness of the U.S. aviation industry and its capability to manage effectively the evolving transportation needs, challenges, and opportunities of the global economy.

DATES: The meeting will be held on May 25, 2010, from 9:30 a.m. to 3:30 p.m.

ADDRESSES: The meeting will be held at the offices of the Department of Transportation, 1200 New Jersey Avenue SE., Washington, DC 20590, on the ground floor of the West Building Atrium located across the street from the Navy Yard (Green Line) Metro station.

Public Access: The meeting is open to the public. (See below for registration instructions)

Public Comments: Five priorities were identified by the aviation industry as topics for the Federal Advisory Committee to consider in discussing the future of the aviation Industry. These topics were published in the Federal Advisory Charter at http://www.regulations.gov (Docket DOT-OST-2010-0074). We request your comments on the five topics. In order for the committee to read and consider your views and question expeditiously, please include one of the following in the subject line when making your e-mail submission; “Financing”, “Safety”, “Environment”, “workforce”, “Competition”, and/or “General comment”. Comments for the May 25 meeting must be received by Wednesday, May 19. All public comments will be posted in Docket DOT-OST-2010-0074, which is accessible from http://www.Regulations.gov. Please note that even after the closing date, we will continue to review public comments for future meetings.

SUPPLEMENTARY INFORMATION:

Background

To carry out its duties, the advisory committee will meet on the following dates this year:

• May 25

• July 14

• August 25

• October 20

• December 15

Meetings of sub groups or work groups may occur more frequently.

Members of the public may review the FAAC charter and minutes of FAAC meetings at http://www.regulations.gov in docket number DOT-OST-2010-0074 or the FAAC Web site at http://www.dot.gov/faac.

Registration

• Space is limited. Registration will be available on a first-come, first-serve basis. Once the maximum number of 300 registrants has been reached, registration will close. All requests to attend the FAAC must be received by close of business on Wednesday, May 19.

• All foreign nationals must provide their date of birth and passport number by Monday, May 17.

• Persons with disabilities who require special assistance should advise the Department at FAAC@dot.gov, under the subject line of “Special Assistance” of their anticipated special needs as early as possible.

• To register: Send an e-mail to FAAC@dot.gov under the subject line “Registration” with the following information:

○ Last name, First name

○ Title

○ Company or affiliation

○ Address

○ Phone number

○ E-mail address in order for us to confirm your registration

• The DOT Headquarters building is a secure Federal building. All attendees will be escorted to and from the meeting area.

• Please inform us if you have protection detail that will accompany you to the event.

• Due to security requirements, leaving the building is discouraged.

• A continental breakfast will be available in the morning (beginning at 7:30) for $5.00 (cash only)

• Lunch (beginning at 11:30) sandwich buffet will be available onsite for $10.00 (cash only).

• No Automated Teller Machines are available at the meeting site.

• An e-mail will be sent to you confirming your registration along with details on security procedures for entering the U.S. Department of Transportation building.

• Entering the U.S. Department of Transportation Building:

○ A picture ID is required.

○ Admission will be at the New Jersey Avenue entrance only.

○ Registration is from 7:30 to 9 a.m.

○ Only pre-registered attendees may attend the meeting.

○ Attendees must be screened and pass through a metal detector.

○ No firearms are allowed in the building, including with protection detail.

○ Special accessibility requirements should be noted at time of e-mail registration.

○ There is no facility parking and parking at public parking lots is extremely limited.

○ For convenience, we recommend use of public transportation. The Navy Yard metro stop on the Green Line (at M Street and New Jersey Ave., SE.) is across the street from DOT's New Jersey Ave entrance. There are several buses with stops nearby. See http://www.wmata.com for more information on trip planning.

• The FAAC meeting will be broadcast on the Internet at http://www.dot.gov/faac.

• There is no Internet access and laptop computers are discouraged as additional security procedures are required.

Public Comments: Public may provide comments to the FAAC on the future of the aviation industry at http://www.regulations.gov (DOT-OST-2010-0074) or at faac@dot.gov. Please be sure to title your subject line as follows:

○ Comments on Financing: “Financing”

○ Comments on Safety: “Safety”

○ Comments on Competition: “Competition”

○ Comments on Environment: “Environment”

○ Comments on Labor: “Labor”

○ Comments on other topics: “General Comments”

○ To register for the meeting: “Registration”

○ To seek additional information: “Further Information”

○ To request special assistance for persons with disabilities: “Special Assistance”

FOR FURTHER INFORMATION CONTACT: Aloha Ley, Associate Director, Small Community Development Program, 202-366-5903, FAAC@dot.gov.

Issued on: May 6, 2010.
Ray LaHood,
Secretary of Transportation.

[FR Doc. 2010-11247 Filed 5-10-10; 8:45 am]

BILLING CODE 4910-9X-P